DEPARTMENT OF COMMERCE

International Trade Administration

[A-475-818]

Certain Pasta From Italy: Amended Rescission of Antidumping Duty Administrative Review, in Part; 2020-2021

AGENCY: Enforcement and Compliance, International Trade Administration, Department of Commerce.

SUMMARY: The U.S. Department of Commerce (Commerce) published a notice in the Federal Register on August 2, 2022, for the preliminary results and partial recission of the 2020-2021 administrative review of the antidumping duty order on certain pasta (pasta) from Italy. Commerce is amending its partial rescission due to an incorrect name.

DATES: Applicable September 13, 2022.

FOR FURTHER INFORMATION CONTACT: Jonathan Hall-Eastman, AD/CVD Operations, Office III, Enforcement and Compliance, International Trade Administration, U.S. Department of Commerce, 1401 Constitution Avenue NW, Washington, DC 20230; telephone: (202) 482-1468.

SUPPLEMENTARY INFORMATION:

Background

On September 7, 2021, based on timely requests for an administrative review, Commerce initiated an administrative review of the Order.¹ On August 2, 2022, in accordance with 19 CFR 351.213(d), we published together with the preliminary results of review a notice of rescission, in part, with respect to the administrative review of the antidumping duty order on pasta from Italy for the period July 1, 2020, through June 30, 2021.²

¹ See Initiation of Antidumping and Countervailing Duty Administrative Reviews, 86 FR 50034 (September 7, 2021).

² See Certain Pasta from Italy: Preliminary Results of Antidumping Duty Administrative Review and Partial Recission of Review; 2020-2021, 87 FR 47185 (August 2, 2022) (Preliminary Results and Partial Rescission).

Amended Rescission of Review in Part

In the Preliminary Results and Partial Rescission, Commerce stated that the review was rescinded with respect to the companies “listed in Appendix II.” One of the companies listed in Appendix II is “Pastificio Liguori dal 1870 SpA.” This is not the correct name of the company on which we intended to rescind the review. We are amending the Preliminary Results and Partial Recission to replace that incorrect name with Liguori Pastificio dal 1820 S.p.A.

Notification to Interested Parties

We are issuing and publishing this amended partial rescission of review in accordance with section 751(h) of the Tariff Act of 1930, as amended, and 19 CFR 351.224(e).

Dated: September 8, 2022.
James Maeder,
Deputy Assistant Secretary for Antidumping and Countervailing Duty Operations.

[FR Doc. 2022-19770 Filed 9-12-22; 8:45 am]

BILLING CODE 3510-DS-P